DEPARTMENT OF HEALTH AND HUMAN SERVICES

Health Resources and Services Administration

Centers for Disease Control and Prevention

Statement of Delegation of Authority

I hereby delegate to the Administrator, Health Resources and Services Administration (HRSA), and the Director, Centers for Disease Control and Prevention (CDC), with authority to redelegate, the authority vested in the Secretary under Title III, Part P, Section 399T (42 U.S.C. 280g-8), titled “Support for Patients Receiving a Positive Diagnosis of Down Syndrome or Other Prenatally or Postnatally Diagnosed Conditions,” of the Public Health Service Act, as amended, insofar as such authority pertains to the functions of HRSA and CDC, respectively. HRSA and CDC will coordinate and collaborate with each other and with the National Institutes of Health, as appropriate, in implementing this authority.

This delegation excludes the authority to issue regulations, to establish advisory committees and councils, and appoint their members, and shall be exercised in accordance with the Department's applicable policies, procedures, and guidelines.

I hereby affirm and ratify any actions taken by the Administrator, HRSA, the Director, CDC, or other HRSA and CDC officials, which involve the exercise of these authorities prior to the effective date of this delegation.

This delegation is effective upon date of signature.

Dated: November 14, 2011.
Kathleen Sebelius,
Secretary.

[FR Doc. 2011-30411 Filed 11-23-11; 8:45 am]

BILLING CODE 4165-15-P